DEPARTMENT OF TRANSPORTATION

Federal Aviation Administration

Tenth Meeting: RTCA Special Committee 224, Airport Security Access Control

AGENCY: Federal Aviation Administration (FAA), U.S. Department of Transportation (DOT).

ACTION: Notice of RTCA Special Committee 224, Airport Security Access Control.

SUMMARY: The FAA is issuing this notice to advise the public of a meeting of RTCA Special Committee 224, Airport Security Access Control.

DATES: The meeting will be held November 17, 2011, from 9:30 a.m.-5 p.m.

ADDRESSES: The meeting will be held at RTCA, Inc., 1150 18th Street, NW., Suite 910, Washington, DC 20036.

FOR FURTHER INFORMATION CONTACT: The RTCA Secretariat, 1150 18th Street, NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Special Committee 224, Airport Security Access Control. The agenda will include the following:

November 17, 2011

• Welcome, Introductions and Administrative Remarks

• Review and Approve Summary of Ninth Meeting

• Propose Structure Overview

• Sub Section Workgroup Reports

• Document Structure Finalization

• Adjourn

Attendance is open to the interested public but limited to space availability. With the approval of the chairman, members of the public may present oral statements at the meeting. Persons wishing to present statements or obtain information should contact the person listed in the “FOR FURTHER INFORMATION CONTACT” section. Members of the public may present a written statement to the committee at any time.

Issued in Washington, DC, on October 24, 2011.
Robert L. Bostiga,
Manager, RTCA Advisory Committee.

[FR Doc. 2011-27924 Filed 10-27-11; 8:45 am]

BILLING CODE 4910-13-P